DEPARTMENT OF ENERGY

Federal Energy Regulatory Commission

[Docket No. ER02-1141-000, et al.]

El Paso Electric Company, et al.; Electric Rate and Corporate Regulation Filings

March 18, 2002.

Take notice that the following filings have been made with the Commission. Any comments should be submitted in accordance with Standard Paragraph E at the end of this notice.

1. El Paso Electric Company

[Docket No. ER02-1141-000]

Take notice that on March 14, 2002, El Paso Electric Company (El Paso) tendered for filing a Service Agreement with Arizona Electric Power Cooperative, Inc. for Firm Transmission Service under El Paso's Open Access Transmission Tariff. The Service Agreement was originally submitted for filing on February 27, 2002 but contained an erroneous service agreement designation. This filing corrects the error.

El Paso requests that the proposed Service Agreement be permitted to become effective on January 24, 2002. A copy has been served on the Texas Public Utility Commission.

Comment Date: April 4, 2002.

2. Appalachian Power Company

[Docket No. ER02-1313-000]

Take notice that on March 13, 2002, Appalachian Power Company tendered for filing an Amendment to Letter Agreement with Allegheny Energy Supply Company, L.L.C.

AEP requests an effective date of February 20, 2002. Copies of Appalachian Power Company's filing have been served upon the Virginia State Corporation Commission.

Comment Date: April 3, 2002.

3. Midwest Independent Transmission System Operator, Inc.

[Docket No. ER02-1315-000]

Take notice that on March 13, 2002, Midwest Independent Transmission System Operator, Inc. (Midwest ISO) pursuant to Section 205 of the Federal Power Act, submitted for filing a Service Agreements for the transmission service requested by Tenaska Power Services Co.

A copy of this filing was sent to Tenaska Power Services Co.

Comment Date: April 3, 2002.

4. Midwest Independent Transmission System Operator, Inc.

[Docket No. ER02-1316-000]

Take notice that on March 13, 2002, Midwest Independent Transmission System Operator, Inc. (Midwest ISO) pursuant to Section 205 of the Federal Power Act, submitted for filing a Service Agreements for the transmission service requested by Muscatine Power and Water.

A copy of this filing was sent to Muscatine Power and Water

Comment Date: April 3, 2002.

5. Midwest Independent Transmission System Operator, Inc.

[Docket No. ER02-1317-000]

Take notice that on March 13, 2002, Midwest Independent Transmission System Operator, Inc. (Midwest ISO) pursuant to Section 205 of the Federal Power Act, submitted for filing a Service Agreements for the transmission service requested by Central Iowa Power Cooperative.

A copy of this filing was sent to Central Iowa Power Cooperative.

Comment Date: April 3, 2002.

6. Midwest Independent Transmission System Operator, Inc.

[Docket No. ER02-1318-000]

Take notice that on March 13, 2002, Midwest Independent Transmission System Operator, Inc. (Midwest ISO) pursuant to Section 205 of the Federal Power Act, submitted for filing a Service Agreements for the transmission service requested by MidAmerican Energy Company (MECR).

A copy of this filing was sent to MidAmerican Energy Company (MECR).

Comment Date: April 3, 2002.

7. Zion Energy LLC

[Docket No. ER02-1319-000]

Take notice that on March 13, 2002, Zion Energy LLC (the Applicant) tendered for filing, under section 205 of the Federal Power Act (FPA), a request for authorization to make wholesale sales of electric energy, capacity, replacement reserves, and ancillary services at market-based rates, to reassign transmission capacity, and to resell firm transmission rights. Applicant proposes to own and operate a 300 MW gas-fired, simple cycle electric generating facility in the City of Zion in Lake County, Illinois. Applicant also filed a long-term Fuel Conversion Services Agreement between Wisconsin Electric Power Company and Applicant, and a power purchase agreement between Wisconsin Power & Light Company (WP&L) and Applicant for the short-term sale of capacity and energy by Applicant to WPL. Applicant requests privileged and confidential treatment for both agreements.

Comment Date: April 3, 2002.

8. UtiliCorp United Inc.

[Docket No. ER02-1320-000]

Take notice that on March 13, 2002, UtiliCorp United Inc. (UtiliCorp), filed with the Commission, pursuant to Section 205 of the Federal Power Act, 16 USC 824d, and Part 35 of the Commission's regulations, 18 CFR 35, Amendatory Agreement No. 2 to the Multiple Interconnection & Transmission Contract between UtiliCorp United Inc. d/b/a Missouri Public Service and Kansas City Power & Light Company. (UtiliCorp's Rate Schedule FERC No. 20). This amendment provides for an additional interconnection point at the Liberty South Station in Clay County, Missouri.

Comment Date: April 3, 2002.

Standard Paragraph

E. Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Magalie R. Salas,
Secretary.

[FR Doc. 02-7033 Filed 3-22-02; 8:45 am]

BILLING CODE 6717-01-P